DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest. OFAC is also updating the entry on the SDN List for one person.

DATES: This action was issued on February 6, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On February 6, 2025, OFAC determined that the property and interests in property subject to U.S. jurisdiction of the following persons are blocked under the relevant sanctions authority listed below.

BILLING CODE 4810-AL-P

BILLING CODE 4810-AL-C

On February 6, 2025, OFAC also identified the following vessels as property in which a blocked person has an interest under the relevant sanctions authority listed below.

Vessels

1. GIOIOSA (3E3562) Crude Oil Tanker Panama flag; Secondary sanctions risk: section 1(b) of Executive Order 13224, as amended by Executive Order 13886; Vessel Registration Identification IMO 9198082; MMSI 352980833 (vessel) [SDGT] (Linked To: GOZOSO GROUP LTD).

Identified as property in which GOZOSO GROUP LTD, a person whose property and interests in property are blocked pursuant to E.O. 13224, as amended, has an interest.

2. OXIS (TJMC232) Crude Oil Tanker Cameroon flag; Secondary sanctions risk: See Section 11 of Executive Order 14024.; alt. Secondary sanctions risk: section 1(b) of Executive Order 13224, as amended by Executive Order 13886; Vessel Registration Identification IMO 9224805; MMSI 613612000 (vessel) [SDGT] [RUSSIA-EO14024] (Linked To: UMBRA NAVI SHIPMANAGEMENT CORP; Linked To: MILETUS LINE LTD).

Identified as property in which MILETUS LINE LTD, a person whose property and interests in property are blocked pursuant to E.O. 13224, as amended, has an interest.

Identified as property in which UMBRA NAVI SHIPMANAGEMENT CORP, a person whose property and interests in property are blocked pursuant to E.O. 14024, has an interest.

3. STAR FOREST (VRWB4) Crude Oil Tanker Hong Kong flag; Vessel Registration Identification IMO 9237632; MMSI 477949100 (vessel) [IRAN-EO13902] (Linked To: LUCKY OCEAN SHIPPING LIMITED).

Identified as property in which LUCKY OCEAN SHIPPING LIMITED, a person whose property and interests in property are blocked pursuant to E.O. 13902, has an interest.

4. CH BILLION (3E5354) Crude Oil Tanker Panama flag; Vessel Registration Identification IMO 9276585; MMSI 352003955 (vessel) [IRAN-EO13902] (Linked To: YOUNG FOLKS INTERNATIONAL TRADING CO., LIMITED).

Identified as property in which YOUNG FOLKS INTERNATIONAL TRADING CO., LIMITED, a person whose property and interests in property are blocked pursuant to E.O. 13902, has an interest.

On February 6, 2025, OFAC updated the entry on the SDN List for the following vessel as property in which a blocked person has an interest under the relevant sanctions authority listed below.

Vessel

1. SIRI (a.k.a. ANTHEA) (D6A3314) Crude Oil Tanker Comoros flag; Secondary sanctions risk: section 1(b) of Executive Order 13224, as amended by Executive Order 13886; Vessel Registration Identification IMO 9281683; MMSI 620999315 (vessel) [SDGT] (Linked To: OCEANLINK MARITIME DMCC).

Identified as property in which OCEANLINK MARITIME DMCC, a person whose property and interests in property are blocked pursuant to E.O. 13224, as amended, has an interest.

Lisa M. Palluconi,
Acting Director, Office of Foreign Assets Control.

[FR Doc. 2025-02470 Filed 2-10-25; 8:45 am]

BILLING CODE 4810-AL-P